DEPARTMENT OF COMMERCE

National Oceanic and Atmospheric Administration

Availability of Seats for the Thunder Bay National Marine Sanctuary and Underwater Preserve Advisory Council

AGENCY: National Marine Sanctuary Program (NMSP), National Ocean Service (NOS), National Oceanic and Atmospheric Administration, Department of Commerce (DOC).

ACTION: Notice and request for applications.

SUMMARY: The Thunder Bay National Marine Sanctuary and Underwater Preserve (TBNMS&UP) is seeking applications for the following seats on the Advisory Council: Tourism; Diving (including snorkeling); Education (elementary, junior high, high school); Maritime History and Interpretation; Citizen-at-Large; Higher Education—Alternate.

Applicants are chosen based upon their particular expertise and experiences in relation to the seat for which they are applying; community and professional affiliations; and the length of residence in the area affected by the Sanctuary & Preserve. Applicants who are chosen as members should expect to serve 3-year terms pursuant to the Council's Charter. Applicants should be available to attend approximately 6 meetings annually.

DATES: Applications are due by August 25, 2005.

ADDRESSES: Application kits may be obtained from Jean Prevo, NOAA/Thunder Bay National Marine Sanctuary and Underwater Preserve, 145 Water Street, Room 109, Alpena, Michigan 49707. All completed applications should be sent to the Alpena address.

FOR FURTHER INFORMATION CONTACT: Jeff Gray, NOAA/Thunder Bay National Marine Sanctuary and Underwater Preserve, 145 Water Street, Room 109, Alpena, MI 49707, (989) 356-8805 ext. 12 phone, (989) 354-0144 FAX, jeff.gray@noaa.gov.

SUPPLEMENTARY INFORMATION: The current TBNMS&UP Advisory Council was established in 2001 to provide advice and recommendations to the Sanctuary Manager and the Joint Management Committee (a state/Federal body to oversee major policy, management and budget issues concerning the Sanctuary & Preserve) regarding the management and operation of the TBNMS&UP. Since its establishment, the Council has played a vital role in the decisions affecting the Sanctuary & Preserve waters. The Council's 15 voting members represent a variety of local constituent groups, as well as the general public, plus five local governmental jurisdictions.

The Council is supported by four working groups: Education, Outreach, Volunteer and Mooring Buoy Working Groups. Each group deals with matters concerning education, outreach, volunteers and resource protection.

The Council functions in an advisory capacity to the Sanctuary Manager and is instrumental in helping to develop program goals. The Council works to advise the Sanctuary Manager by keeping him informed about areas of concern from their constituents, as well as offering recommendations on specific issues that may occur.

The Sanctuary & Preserve was established to manage and protect Thunder Bay's historic collection of over 100 shipwrecks. NOAA and the State of Michigan are equal partners in the management of TBNMS&UP. Both NOAA and the State will mutually agree on the selection of the vacant seat members.

Authority: 16 U.S.C. Section 1431, et seq.

(Federal Domestic Assistance Catalog Number 11.429 Marine Sanctuary Program)

Dated: July 26, 2005.
Daniel J. Basta,
Director, National Marine Sanctuary Program, National Ocean Services, National Oceanic and Atmospheric Administration.

[FR Doc. 05-15144 Filed 7-29-05; 8:45 am]

BILLING CODE 3510-NK-M